NATIONAL TRANSPORTATION SAFETY BOARD

Sunshine Act Meeting

TIME AND DATE: 9:30 a.m., Tuesday, April 3, 2001.

PLACE: NTSB Conference Center, 429 L'Enfant Plaza, SW., Washington, DC 20594.

STATUS: The one item is Open to the Public.

MATTERS TO BE CONSIDERED: 7339 Railroad Accident Report: Collision Involving Three Consolidated Rail Corporation Freight Trains Operating in Fog at Bryan, Ohio, January 17, 1999 (DCA-99-MR-002).

Individuals requesting specific accommodation should contact Mrs. Barbara Bush at (202) 314-6220 by Friday, March 30, 2001.

FOR MORE INFORMATION CONTACT: Vicky D'Onofrio, (202) 314-6065. News Media Contact: Telephone: (202) 314-6100.

Dated: March 23, 2001.
Vicky D'Onofrio,
Federal Register Liaison Officer.

[FR Doc. 01-7664 Filed 3-23-01; 2:21 pm]

BILLING CODE 7533-01-M